SECURITIES AND EXCHANGE COMMISSION

Sunshine Act Meeting

Federal Register Citation of Previous Announcement: [67 FR 40034, June 11, 2002].

Status: Open Meeting.

Place: 450 Fifth Street, NW., Washington, DC.

Date and Time of Previously Announced Meeting: Wednesday, June 12, 2002, at 10:00 a.m.

Change in the Meeting: Change in Subject Matter.

The subject matter of the previously announced item to be considered at the Open Meeting scheduled for Wednesday, June 12, 2002 has been changed to:

The Commission will consider whether to publish in the Federal Register a notice that the Evangelical Christian Credit Union has submitted an application for an exemption to permit it to offer to sweep account balances into no-load money market funds without being registered as a broker-dealer. The notice would request public comment on whether the relief requested should be granted pursuant to Sections 15(a)(2) and 36(a)(1) of the Securities Exchange Act of 1934, whether such relief should be extended to all credit unions with deposits insured by the National Credit Union Share Insurance Fund, and whether such an exemption would raise issues that should be considered in connection with amendments to the May 11, 2001 interim final rules implementing the functional regulation exceptions from broker-dealer registration of the Gramm-Leach-Bliley Act.

Commissioner Glassman, as duty officer, determined that Commission business required the above change and that no earlier notice thereof was possible.

At times, changes in Commission priorities require alterations in the scheduling of meeting items. For further information and to ascertain what, if any, matters have been added, deleted or-postponed, please contact: The Office of the Secretary at (202) 942-7070.

Dated: June 11, 2002.
Jill M. Peterson,
Assistant Secretary.

[FR Doc. 02-15056 Filed 6-11-02; 8:45 am]

BILLING CODE 8010-01-M